FEDERAL COMMUNICATIONS COMMISSION

47 CFR Part 73

[DA 01-2151]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective September 28, 2001.

FOR FURTHER INFORMATION CONTACT: Kathleen Scheuerle, Mass Media Bureau, (202) 418-2180.

SUPPLEMENTARY INFORMATION: This is a summary of the Commission's Report and Order, adopted September 5, 2001, and released September 14, 2001. The full text of this Commission decision is available for inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by removing Channel 270C and adding Channel 270C0 at Montgomery.

3. Section 73.202(b), the Table of FM Allotments under Alaska, is amended by removing Channel 273C and adding Channel 273C1 and by removing Channel 284C3 and adding Channel 284C1 at Fairbanks.

4. Section 73.202(b), the Table of FM Allotments under Colorado, is amended by removing Channel 243C1 and adding Channel 243A at Julesburg.

5. Section 73.202(b), the Table of FM Allotments under Iowa, is amended by removing Channel 292C3 and adding Channel 295C3 at Bloomfield.

6. Section 73.202(b), the Table of FM Allotments under Louisiana, is amended by removing Channel 293A and adding Channel 293C3 at Atlanta.

7. Section 73.202(b), the Table of FM Allotments under Nebraska, is amended by removing Channel 275C0 and adding Channel 275A at Imperial.

8. Section 73.202(b), the Table of FM Allotments under Texas, is amended by removing Channel 288A and adding Channel 287C3 at Levelland and by removing Channel 229A and adding Channel 230C3 at Uvalde.

9. Section 73.202(b), the Table of FM Allotments under Vermont, is amended by removing Channel 277C3 and adding Channel 277C2 at Waterbury.

10. Section 73.202(b), the Table of FM Allotments under Wyoming, is amended by removing Channel 247C1 and adding Channel 244C2 at Casper, by removing Channel 244C3 and adding Channel 244C2 at Laramie,¹ and by removing Channel 299C and adding Channel 300C at Midwest.²

¹ Station KKRR, Laramie, Wyoming, was previously modified from Channel 244A to Channel 244C3. See 66 FR 20608, April 24, 2001.

² Station KRVK, Midwest, Wyoming, was previously modified from Channel 300A to Channel 299C. See 66 FR 20608, April 24, 2001.

11. Section 73.202(b), the Table of FM Allotments under Guam, is amended by removing Channel 262C2 and adding Channel 262C1 at Agana.

Federal Communications Commission.
John A. Karousos,
Chief, Allocations Branch, Policy and Rules Division, Mass Media Bureau.

[FR Doc. 01-24137 Filed 9-27-01; 8:45 am]

BILLING CODE 6712-01-P